DEPARTMENT OF HEALTH AND HUMAN SERVICES

Administration for Children and Families

Submission for OMB Review; Comment Request

Title: OCSE-369A: Financial Report; and OCSE-34A: Quarterly Report of Collections.

OMB No.: 0970-0181.

Description: Each State agency administering the Child Support Enforcement Program under Title IV-D of the Social Security Act is required to provide information to the Office of Child Support Enforcement concerning its administrative expenditures and its receipt and disposition of child support payments from non-custodial parents. These quarterly reporting forms enable each State to provide that information, which is used to compute both the quarterly grants awarded to each State and the annual incentive payments earned by each State. This information is also included in a published annual statistical and financial report, available to the general public.

Comments sent to the Office of Child Support Enforcement, both directly and in response to an earlier Federal Register Notice (67 FR 39727, et seq.), provided many useful recommendations to update and correct these financial reporting forms. However, several comments strongly indicated that State agencies would have inadequate time to incorporate these revisions in time to meet the reporting requirements for the fiscal year beginning October 1, 2002. In addition, legislation has been introduced in Congress that, if enacted, may require additional revisions to these forms.

For these reasons, we have decided to request that the expiration date of the existing forms be extended, without change, through September 30, 2004.

Respondents: State agencies administering the Child Support Enforcement Program.

Annual Burden Estimates
Instrument | Number of respondents | Number of responses per respondent | Average burden hours per response | Total burden hours
OCSE-396A | 54 | 4 | 8 | 1,728
OCSE-34A | 54 | 4 | 8 | 1,728

Estimated Total Annual Burden Hours: 3,456.

Additional Information: Copies of the proposed collection may be obtained by writing to the Administration for Children and Families, Office of Administration, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: October 1, 2002.
Robert Sargis,
Reports Clearance Officer.

[FR Doc. 02-25425 Filed 10-4-02; 8:45 am]

BILLING CODE 4184-01-M